DEPARTMENT OF AGRICULTURE

Agricultural Marketing Service

[Doc. No. AMS-NOP-24-0081]

Meeting of the National Organic Standards Board

AGENCY: Agricultural Marketing Service, USDA.

ACTION: Notice of public meeting.

SUMMARY: In accordance with the Federal Advisory Committee Act, as amended, the Agricultural Marketing Service (AMS), U.S. Department of Agriculture (USDA), is announcing a meeting of the National Organic Standards Board (NOSB). The NOSB assists USDA in the development of standards for substances to be used in organic production and advises the Secretary of Agriculture on any other aspects of the implementation of the Organic Foods Production Act (OFPA).

DATES: A virtual meeting will be held April 29-May 1, 2025, from 12:00 p.m. to approximately 5:00 p.m. Eastern Time (ET) each day. The NOSB will hear oral public comments via webinars on Tuesday, April 22 and Thursday, April 24, 2025, from 12:00 p.m. to approximately 5:00 p.m. Eastern Time (ET). The deadline to submit written comments and/or sign up for oral comment at the webinar meeting is 11:59 p.m. ET, April 28, 2025.

ADDRESSES: The webinars and meeting are virtual and will be accessed via the internet and/or phone. Access information will be available on the AMS website prior to the webinars. Detailed information can be found at https://www.ams.usda.gov/event/national-organic-standards-board-nosb-meeting-spring-25.

FOR FURTHER INFORMATION CONTACT: Ms. Michelle Arsenault, Advisory Committee Specialist, National Organic Standards Board, USDA-AMS-NOP, 1400 Independence Avenue SW, Room 2642-S, STOP 0268, Washington, DC 20250-0268; Phone: (202) 997-0115; Email: nosb@usda.gov.

SUPPLEMENTARY INFORMATION: In accordance with the Federal Advisory Committee Act, 5 U.S.C. 10, and 7 U.S.C. 6518(e), as amended, AMS is announcing a meeting of the NOSB. The NOSB makes recommendations to USDA about whether substances should be allowed or prohibited in organic production and/or handling, assists in the development of standards for organic production, and advises the Secretary on other aspects of the implementation of the Organic Foods Production Act, 7 U.S.C. 6501, et seq. NOSB is holding a public meeting to discuss and vote on proposed recommendations to USDA, to obtain updates from the NOP on issues pertaining to organic agriculture, and to receive comments from the organic community. Registration is only required to sign up for oral comments. All meeting documents and instructions for participating will be available on the AMS website at https://www.ams.usda.gov/event/national-organic-standards-board-nosb-meeting-spring-25. Please check the website periodically for updates. Meeting topics will encompass a wide range of issues, including substances petitioned for addition to, or removal from, the National List of Allowed and Prohibited Substances (National List), substances on the National List that are under sunset review, and guidance on organic policies.

Public Comments: Comments should address specific topics noted on the meeting agenda.

Written Comments: Written public comments will be accepted until 11:59 p.m. ET, April 28, 2025, via https://www.regulations.gov (Doc. No. AMS-NOP-24-0081). Comments submitted after this date will be added to the public comment docket, but Board members may not have adequate time to consider those comments prior to making recommendations. NOP strongly prefers comments be submitted electronically. However, written comments may also be submitted (i.e., postmarked) via mail, by or before the April 28, 2025, to the person listed under FOR FURTHER INFORMATION CONTACT.

Oral Comments: The NOSB will hear oral public comments via webinars on Tuesday, April 22 and Thursday, April 24, 2025, from 12:00 p.m. to approximately 5:00 p.m. Eastern Time (ET). Commenters wishing to address the Board must pre-register by 11:59 p.m. ET on April 9, 2025. Instructions for registering and providing oral comments can be found on the meeting web page noted under ADDRESSES.

Meeting Accommodations: USDA provides reasonable accommodation to individuals with disabilities where appropriate. If you are a person requiring reasonable accommodation, please make requests in advance for sign language interpretation, assistive listening devices, or other reasonable accommodation to the person listed under FOR FURTHER INFORMATION CONTACT. Determinations for reasonable accommodation will be made on a case-by-case basis.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

This meeting notice is being published late due to additional administrative matters of the USDA Department.

Dated: March 25, 2025.
Cikena Reid,
USDA Committee Management Officer.

[FR Doc. 2025-05365 Filed 3-26-25; 4:15 pm]

BILLING CODE 3410-02-P